DEPARTMENT OF EDUCATION

Notice of Submission for OMB Review; Office of Postsecondary Education; Child Care Access Means Parents in School Program Annual Performance Report

Summary: This is a revision of the Child Care Access Means Parent In School Program (CCAMPIS) Annual Performance Report (APR) which grantees must submit annually. The report provides the Department of Education with information needed to evaluate a grantee's performance and compliance with program requirements in accordance with the program authorizing statute.

Dates: Interested persons are invited to submit comments on or before April 27, 2012.

Addresses: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04790. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

Supplementary Information: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Child Care Access Means Parents in School Program Annual Performance Report.

OMB Control Number: 1840-0763.

Type of Review: Revision.

Total Estimated Number of Annual Responses: 153.

Total Estimated Number of Annual Burden Hours: 1,071.

Abstract: The data collected is aggregated to provide national information on project participants and the results demonstrated by program outcomes. The burden hours are increased due to additional queries have been added to the APR that capture more specific data needed to enhance the understanding of results demonstrated by this program in accordance with OMB mandates.

Dated: March 23, 2012.
Darrin A. King,
Director, Information Collection Clearance Division, Privacy, Information and Records Management Services, Office of Management.

[FR Doc. 2012-7476 Filed 3-27-12; 8:45 am]

BILLING CODE 4000-01-P